COMMISSION ON CIVIL RIGHTS

Notice of Public Meeting of the Kansas Advisory Committee for a Meeting To Discuss Potential Project Topics

AGENCY: U.S. Commission on Civil Rights.

ACTION: Notice of meeting.

SUMMARY: Notice is hereby given, pursuant to the provisions of the rules and regulations of the U.S. Commission on Civil Rights (Commission) and the Federal Advisory Committee Act that the Kansas Advisory Committee (Committee) will hold a meeting on Wednesday, September 24, 2014, for the purpose of discussing two potential project topics for the committee to study in the coming year: Equal educational opportunity in Kansas and voting rights in Kansas. The committee will discuss memos prepared by regional staff.

Members of the public can listen to the discussion. This meeting is available to the public through the following toll-free call-in number: 888-364-3109, conference ID: 2276277. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are also entitled to submit written comments; the comments must be received in the regional office by October 24, 2014. Written comments may be mailed to the Midwestern Regional Office, U.S. Commission on Civil Rights, 55 W. Monroe St., Suite 410, Chicago, IL 60615. They may also be faxed to the Commission at (312) 353-8324, or emailed to Administrative Assistant, Carolyn Allen at callen@usccr.gov. Persons who desire additional information may contact the Midwestern Regional Office at (312) 353-8311.

Records generated from this meeting may be inspected and reproduced at the Midwestern Regional Office, as they become available, both before and after the meeting. Records of the meeting will be available via www.facadatabase.gov under the Commission on Civil Rights, Missouri Advisory Committee link. Persons interested in the work of this Committee are directed to the Commission's Web site, http://www.usccr.gov, or may contact the Midwestern Regional Office at the above email or street address.

Agenda

Welcome and Introductions

12:00 p.m. to 12:10 p.m.: Elizabeth Kronk Warner, Chair

Discussion of Equal Opportunity in Education memo

12:10 p.m. to 12:30 p.m.: Leen Nachawati, USCCR intern, Kansas Advisory Committee

Discussion of Voting Rights in Kansas

12:30 p.m. to 12:50 p.m.: Annie Myers, USCCR intern, Kansas Advisory Committee

Planning Next Steps

12:50 p.m. to 1:00 p.m.

Adjournment

1:00 p.m.

DATES: The meeting will be held on Wednesday, September 24, 2014, at 12:00 p.m.

Public Call Information:

Dial: 888-364-3109

Conference ID: 2276277

Dated: September 4, 2014.
David Mussatt,
Chief, Regional Programs Unit.

[FR Doc. 2014-21396 Filed 9-8-14; 8:45 am]

BILLING CODE 6335-01-P